DEPARTMENT OF COMMERCE

National Oceanic and Atmospheric Administration

50 CFR Part 622

[Docket No. 991008273-0070-02; I.D. 062399B]

RIN 0648-AK89

Fisheries of the Caribbean, Gulf of Mexico, and South Atlantic; Coastal Migratory Pelagic Resources of the Gulf of Mexico and South Atlantic; Amendment 9

AGENCY: National Marine Fisheries Service (NMFS), National Oceanic and Atmospheric Administration (NOAA), Commerce.

ACTION: Final rule.

SUMMARY: NMFS issues this final rule to implement Amendment 9 to the Fishery Management Plan for the Coastal Migratory Pelagic Resources of the Gulf of Mexico and South Atlantic (Amendment 9). For Gulf migratory group king mackerel, this rule establishes a moratorium on issuance of gillnet endorsements that includes eligibility criteria and restrictions on transferability of endorsements; restricts the area in which the gillnet fishery can operate; reallocates the eastern zone quota between the Florida east coast and Florida west coast subzones; and divides the Florida west coast subzone into northern and southern subzones with respective quotas. This rule also allows retention and sale of cut-off (damaged) king and Spanish mackerel that are greater than the minimum size limits and possessed within the trip limits. The intended effect of this rule is to protect king and Spanish mackerel from overfishing and to maintain healthy stocks while still allowing catches by important commercial and recreational fisheries.

DATES: This final rule is effective April 27, 2000.

ADDRESSES: Comments regarding the collection-of-information requirements contained in this rule should be sent to Edward E. Burgess, Southeast Regional Office, NMFS, 9721 Executive Center Drive N., St. Petersburg, FL 33702, and to the Office of Information and Regulatory Affairs, Office of Management and Budget (OMB), Washington, DC 20503 (Attention: NOAA Desk Officer).

FOR FURTHER INFORMATION CONTACT: Dr. Steve Branstetter; telephone: 727-570-5305; fax: 727-570-5583; e-mail: Steve.Branstetter@noaa.gov.

SUPPLEMENTARY INFORMATION: The fisheries for coastal migratory pelagic resources are managed under the Fishery Management Plan for the Coastal Migratory Pelagic Resources of the Gulf of Mexico and South Atlantic (FMP). The FMP was prepared jointly by the Gulf of Mexico Fishery Management Council and the South Atlantic Fishery Management Council (Councils), approved by NMFS, and implemented under the authority of the Magnuson-Stevens Fishery Conservation and Management Act (Magnuson-Stevens Act) by regulations at 50 CFR part 622.

On July 6, 1999, NMFS announced the availability of Amendment 9 and requested comments on the amendment (64 FR 36325). NMFS approved Amendment 9 on October 7, 1999, and published a proposed rule to implement the measures in Amendment 9 and requested comments (64 FR 60151, November 4, 1999). The background and rationale for the measures in the amendment and proposed rule are contained in the preamble to the proposed rule and are not repeated here.

Comments and Responses

NMFS received twenty-one public comments, many with common statements. A summary of the comments and NMFS' responses follow.

Comment 1: Three commenters expressed general support for the actions to be implemented by this final rule, with minor comments or suggestions for additional measures that could be considered by the Council (see Comment 10). One of the commenters stated that the actions to establish separate sub-zones along Florida's west coast and to implement a moratorium on gill net endorsements were long overdue. Another commenter supported measures that would bring catch capacity in line with total allowable catch until an individual fishing quota or other capacity limiting management strategy could be implemented. By contrast, one commenter opposed all of the actions proposed in Amendment 9, concluding that the actions were unwarranted and unnecessary.

Response: NMFS believes that the actions in Amendment 9 will enhance the socioeconomic benefits of the commercial king mackerel fishery, protect the stock from overfishing, and reduce waste which will improve the accuracy of fishing mortality estimates. NMFS is implementing these actions through this final rule.

Comment 2: Three comments supported the establishment of a northern and southern subzone in the Florida west coast subzone, but three other commenters were opposed to the establishment of the subzones because they unfairly restricted access to the fishery resource. One of the latter commenters noted that the proposed boundaries of the northern and southern subzones would discriminate against central Florida Gulf coast fishermen. The commenter stated that the northern subzone quota will be caught by fishermen fishing off the Florida Panhandle during the summer, closing the fishery in the subzone before the fish migrated south to the central Florida area; central Florida fishermen then would be restricted to fish in the southern subzone (Collier and Monroe Counties), creating a hardship on the fishermen and their families.

Response: NMFS disagrees that the establishment of subzones and the reallocation of the Gulf group king mackerel Eastern Zone quota is unfair or discriminatory to any particular region or fishing sector. The allocations of the quota, as derived by the Councils, were based on the recent landing histories for each region. The Councils recommended an allocation to fishers in the northern zone that reflected their recent landings, while at the same time, protected the historical contribution and participation of the fishers in the south Florida area. NMFS agrees with the strategy employed to derive these re-allocations.

Comment 3: Eleven comments stated the proposed northern subzone quota of 175,500 lb (79,606 kg) was too small. Several of these commenters expressed dismay that the proposed quota was only 14 percent of the total 1,170,000-lb (530,703-kg) eastern zone quota. The commenters thought that the northern subzone would receive a 25 to 30 percent allocation of the eastern zone quota. Several commenters stated that the re-allocation unfairly provided most of the quota to the southern subzone, noting that fishermen in the southern subzone also have the ability to fish seasonally on Atlantic group king mackerel, thus providing even greater access to king mackerel resources. Several commenters suggested that NMFS increase the allocation proposed by the Council for the northern subzone by at least 100,000 lb (45,359 kg).

Response: The Councils recognized that northern Florida landings of king mackerel have increased significantly in recent years. During the 1980s, Monroe County (the Florida Keys) accounted for nearly 90 percent of the king mackerel landings on the west coast of Florida. During the 1990s, the contribution by the Florida Panhandle area increased to approximately 25 percent of the total hook-and-line landings. The selection of a dedicated 175,500 lb (79,606 kg) to the proposed northern subzone equates to 30 percent of the existing 585,000-lb (265,352-kg) hook-and-line allocation for the existing Florida west coast subzone, and nearly 25 percent of the total Florida west coast hook-and-line allocation as implemented in this rule. The allocation of the 175,500 lb (79,606 kg) was derived by dedicating 7.5 percent of the total eastern Gulf commercial quota of 2.34 million lb (1.06 million kg) to the northern subzone. The remaining 92.5 percent was then divided equally between the Florida east coast and Florida west coast (excluding the northern subzone). The Florida west coast quota for the proposed southern subzone was then divided equally between the hook-and-line and run-around gillnet fisheries. In providing this option, the Councils attempted to reflect the recent increases in the proportion of the landings attributable to the northern area, while maintaining support for the more traditional and historical fishery of southern Florida.

With the seasonal shift in the boundary dividing the Atlantic group from the Gulf group king mackerel stocks, beginning on April 1 of each year, southern Florida (Monroe and Collier County) fishermen do have access to the Atlantic group fish. However, this fishery is short-lived as the fish soon migrate north out of the south Florida area.

NMFS supports the Councils' rationale in deriving the allocations for each subzone within the Gulf group eastern zone king mackerel fishery. NMFS cannot increase the proposed allocation for the northern subzone, as suggested by the various commenters. NMFS may approve, partially approve, or disapprove actions submitted by the Councils; NMFS may not substitute actions in this rule for those submitted by the Councils.

Comment 4: Three commenters believed that the proposed reduction for the Florida east coast quota was unfair. Commenters noted that they had accepted lower trip limits for years so that the fishery could remain open year-round. With the reduction in their quota, the fishers are concerned that the fishery will be closed earlier resulting in hardship on Atlantic coast fishermen.

Response: The Florida east coast subzone was first established for the 1994-95 fishing year with a quota of 865,000 lb (392,357 kg) for this segment of the fishery. Beginning with the 1997-98 fishing year, the quota was increased to 1,170,000 lb (530,703 kg). The measures in Amendment 9 would reduce this quota to 1,082,250 lb (490,900 kg). This segment of the fishery has been closed only once when the quota was reached during the 1998-99 fishing year. That closure was only two weeks prior to the March 31 end of the fishing year. Given that this fishery has only once met its quota, NMFS does not believe that the redistribution of quota allocations will affect overall landings and fishing season for this segment of the fishery.

Additionally, any future increases of total allowable catch for the Gulf group king mackerel stock, when that stock is no longer overfished, would be distributed among the various fishery sectors.

Comment 5: Two commenters believed that restricting gillnet endorsements to those fishers who were active in the fishery is unfair. One of the commenters also opposed the limited transferability of the endorsements. Both noted that fishers who may be inactive in a fishery still maintain their permits and endorsements in the event that their primary fisheries are closed, and it becomes necessary for them to fish in an alternative fishery. By contrast, two commenters supported the moratorium and limited transferability of gillnet endorsements, but questioned the continuing 50-percent allocation of the commercial quota for the proposed southern subzone gillnet segment of the fishery.

Response: The Councils chose to restrict the issuance of gillnet endorsements in the Gulf group king mackerel fishery to curtail expansion of that fishery, and NMFS agrees with this concept. The gillnet fishery has a long history of participating in the commercial king mackerel fishery. NMFS' records indicate that about 87 vessels hold active king mackerel permits with gillnet endorsements, but, since the 1994/1995 season, only 22 different vessels have participated in the fishery. Only about 17 of the 22 recently active gillnet endorsement holders would be able to retain their gillnet endorsements under Amendment 9. Two of the 22 vessels dropped out of the fishery prior to the 1995/1996 and 1996/1997 fishing seasons that will be used as the criterion for retention of the gillnet endorsement, and three vessels entered the fishery after these dates. Thus, the majority (17 of 22) of the current and active gillnet fishers will be eligible to remain in the fishery.

NMFS believes that limiting the number of participants in the gillnet fishery is imperative to prevent expansion and overcapitalization in the fishery and to reduce the probability of quota overruns by this prolific segment of the fishery. Limiting the issuance of gillnet endorsements to those vessels that can demonstrate active participation in the fishery and allowing transfer of those endorsements only to family members will allow continued participation by historical fishing families while the Councils consider whether additional or alternative options should be implemented to effectively manage the overfished Gulf group king mackerel fishery.

NMFS disagrees that the continued 50-percent allocation to the gillnet fishery in the proposed southern subzone of the Florida west coast subzone is inequitable. As noted, about 17 of the 22 recently active participants will be eligible to continue in this fishery, and this segment of the fishery historically has taken its allocation of the quota in a short timeframe. Should the number of eligible participants in the gillnet fishery decline in the future, the Council can reconsider this allocation.

Comment 6: Two comments supported the sale of cut-off fish.

Response: One of the mandates in the 1996 Sustainable Fisheries Act is to reduce bycatch and waste in fisheries. NMFS agrees that allowing the possession and sale of cut-off fish that otherwise would meet the minimum size limit and be possessed within the legal trip limit will reduce waste in this fishery and provide a more accurate assessment of fishing mortality by reducing unreported regulatory discards.

Comment 7: Three comments addressed a proposed action described in Amendment 9 that was rejected by the Councils and not included in the proposed and final rule. This action would have prohibited the sale of recreationally caught fish. Additionally, a minority report from one Gulf Council member expressed concern that this measure was not approved by the South Atlantic Council for consideration by the Secretary of Commerce. Commenters suggested that recreational sale, if allowed to continue, should be suspended when the commercial fishery closes.

Response: NMFS supports the concept of prohibiting the sale of recreationally caught fish. Allowing such sales leads to double-counting of fish which impacts the accuracy of the estimates of fishing mortality. The no-sale provision described in the amendment was not supported collectively by the Councils administering this joint FMP. Thus, the Councils could not forward the no-sale provision for inclusion in the proposed rule.

Comment 8: Two commenters questioned the fairness of further restricting the commercial fishery by placing a moratorium on gillnet endorsements, while the recreational fishery is not required to have a permit and does not have to demonstrate any qualifications to maintain an active status in the fishery.

Response: There are currently no licensing requirements for private individuals to fish recreationally in the exclusive economic zone (EEZ). However, a charter vessel/headboat permit for coastal migratory fish must be issued and on board a vessel that is operating as a charter vessel or headboat to fish for or possess coastal migratory pelagic fish in or from the EEZ. Additionally, the owner or operator of a vessel for which a charter vessel/headboat permit for coastal migratory pelagic fish has been issued, or whose vessel fishes for or lands such coastal migratory pelagic fish in or from state waters adjoining the Gulf or South Atlantic EEZ, and who is selected by NMFS to report must maintain a fishing record for each trip or a portion of such trips, as specified by NMFS, on forms provided by NMFS and must submit such records on a regular basis. If selected, charter vessels must submit completed fishing records to NMFS weekly, and headboats must submit completed fishing records monthly. The Councils are currently considering a permit moratorium for the for-hire sector for coastal migratory pelagic fish, Gulf reef fish, and South Atlantic snapper-groupers to address the rapid expansion of the for-hire industry throughout the Southeast.

Comment 9: One commenter questioned why it was necessary to further restrict directed commercial harvest by limiting the number of commercial fishermen in the coastal migratory pelagic fishery through a permit moratorium, when the Councils were not further restricting shrimping effort which has an impact on coastal migratory stocks through bycatch mortality.

Response: The Councils have addressed shrimp trawl bycatch and its impact on coastal migratory pelagic fishes. Bycatch reduction devices (BRDs) are required in all EEZ waters shoreward of the 100-fathom (183-m) depth contour west of Cape San Blas, Florida, in the Gulf of Mexico, and in all EEZ waters of the South Atlantic. BRDs are also required in all South Atlantic state waters, and the State of Florida requires the use of BRDs in shrimp trawls in state waters in the Gulf of Mexico. Additionally, the Gulf of Mexico Fishery Management Council is considering options to extend BRD requirements into the eastern Gulf of Mexico, making the use of BRDs mandatory in all EEZ waters in the Gulf of Mexico.

Comment 10: Several commenters offered suggestions for additional actions that they believe would be beneficial to managing the coastal migratory pelagic fisheries but that were not included in Amendment 9. One comment suggested that NMFS allow for quota adjustments in subsequent years for any overruns that occur by a particular fishery segment. Two commenters suggested that a logbook or other reporting system should be required for recreational fishing vessels or operators who sell their catch to avoid the double-counting of recreationally caught fish that are later sold and counted against the commercial quota. One commenter further suggested that a fishing license system should be developed for the private recreational sector in the EEZ. One commenter suggested that 50 percent, not 25 percent, of the fisher's income should be derived from commercial fishing in order to be eligible for a commercial permit. Another commenter suggested that the criterion should be based on the landing history of mackerel and not just on income derived from fishing. One commenter stated that the stock assessment and proposed actions did not consider an 18.6-year lunar cycle, the North Atlantic oscillation, or the 11-year shift in sea water temperatures and the effects of these phenomena on coastal migratory pelagic fish stocks.

Response: NMFS agrees that numerous additional management options are available to the Councils to effectively manage the coastal migratory pelagic resources of the southeastern United States. However, as noted in Comment 3, NMFS cannot substitute measures for those proposed by the Councils in this rule. NMFS encourages the public to be actively involved in the Council process and provide suggestions to the Councils for their deliberations. Regarding the incorporation of environmental variables and their effects on fish stocks in stock assessments, although these phenomena may exist, there is currently no evidence suggesting that they have any effect on the biology, abundance, or distribution of mackerel.

Classification

The Administrator, Southeast Region, NMFS, determined on October 7, 1999, that Amendment 9 is necessary for the conservation and management of the FMP and that it is consistent with the Magnuson-Stevens Act and other applicable laws.

This final rule has been determined to be not significant for purposes of E.O. 12866.

The Chief Counsel for Regulation of the Department of Commerce has certified to the Chief Counsel for Advocacy of the Small Business Administration that this rule would not have a significant economic impact on a substantial number of small entities. No comments were received regarding this certification. As a result, a regulatory flexibility analysis was not prepared.

Notwithstanding any other provision of law, no person is required to respond to, nor shall a person be subject to a penalty for failure to comply with, a collection-of-information subject to the requirements of the Paperwork Reduction Act (PRA) unless that collection of information displays a currently valid OMB control number.

This rule includes collection-of-information requirements that are subject to the PRA and which has been approved under OMB control number 0648-0205. The estimated response times are 20 minutes for a king mackerel permit application and 5 minutes for a king mackerel gillnet endorsement. These estimates include the time for reviewing instructions, searching existing data sources, gathering and maintaining the data needed, and completing and reviewing the collections of information. Send comments regarding this burden estimate, or any other aspect of this data collection, including suggestions for reducing the burden, to NMFS and OMB (see ADDRESSES).

List of Subjects in 50 CFR Part 622

Fisheries, Fishing, Puerto Rico, Reporting and recordkeeping requirements, Virgin Islands.

Dated: March 22, 2000.
Penelope D. Dalton,
Assistant Administrator for Fisheries, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.4, paragraphs (a)(2)(ii) through (a)(2)(iv), the first sentence of paragraph (g), and paragraph (o) are revised to read as follows:

§ 622.4 Permits and fees.

(a) * * *

(2) * * *

(ii) Gillnets for king mackerel in the southern Florida west coast subzone. For a person aboard a vessel to use a run-around gillnet for king mackerel in the southern Florida west coast subzone (see § 622.42(c)(1)(i)(A)(3)), a commercial vessel permit for king mackerel with a gillnet endorsement must have been issued to the vessel and must be on board. See paragraph (o) of this section regarding a moratorium on endorsements for the use of gillnets for king mackerel in the southern Florida west coast subzone and restrictions on transferability of king mackerel gillnet endorsements.

(iii) King mackerel. For a person aboard a vessel to be eligible for exemption from the bag limits and to fish under a quota for king mackerel in or from the Gulf, Mid-Atlantic, or South Atlantic EEZ, a commercial vessel permit for king mackerel must have been issued to the vessel and must be on board. To obtain or renew a commercial vessel permit for king mackerel valid after April 30, 1999, at least 25 percent of the applicant's earned income, or at least $10,000, must have been derived from commercial fishing (i.e., harvest and first sale of fish) or from charter fishing during one of the 3 calendar years preceding the application. See paragraph (q) of this section regarding a moratorium on commercial vessel permits for king mackerel, initial permits under the moratorium, transfers of permits during the moratorium, and limited exceptions to the earned income or gross sales requirement for a permit.

(iv) Spanish mackerel. For a person aboard a vessel to be eligible for exemption from the bag limits and to fish under a quota for Spanish mackerel in or from the Gulf, Mid-Atlantic, or South Atlantic EEZ, a commercial vessel permit for Spanish mackerel must have been issued to the vessel and must be on board. To obtain or renew a commercial vessel permit for Spanish mackerel valid after April 30, 1999, at least 25 percent of the applicant's earned income, or at least $10,000, must have been derived from commercial fishing (i.e., harvest and first sale of fish) or from charter fishing during one of the 3 calendar years preceding the application.

* * * * *

(g) Transfer. A vessel permit, license, or endorsement or dealer permit issued under this section is not transferable or assignable, except as provided in paragraph (m) of this section for a commercial vessel permit for Gulf reef fish, in paragraph (n) of this section for a fish trap endorsement, in paragraph (o) of this section for a Gulf king mackerel gillnet endorsement, in paragraph (p) of this section for a red snapper license, in paragraph (q) of this section for a king mackerel permit, in § 622.17(c) for a commercial vessel permit for golden crab, or in § 622.18(e) for a commercial vessel permit for South Atlantic snapper-grouper. * * *

* * * * *

(o) Moratorium on endorsements for the use of gillnets for king mackerel in the southern Florida west coast subzone. (1) An initial king mackerel gillnet endorsement will be issued only if—

(i) The vessel owner was the owner of a vessel with a commercial mackerel permit with a gillnet endorsement on or before October 16, 1995; and

(ii) The vessel owner was the owner of a vessel that had gillnet landings of Gulf migratory group king mackerel in one of the two fishing years, July 1, 1995, through June 30, 1996, or July 1, 1996, through June 30, 1997. Such landings must have been documented by NMFS or by the Florida Department of Environmental Protection trip ticket system as of December 31, 1997. Only landings when a vessel had a valid commercial permit for king mackerel with a gillnet endorsement and only landings that were harvested, landed, and sold in compliance with state and Federal regulations may be used to establish eligibility.

(2) Paragraphs (o)(1)(i) and (o)(1)(ii) of this section notwithstanding, the owner of a vessel that received a commercial king mackerel permit through transfer, between March 4, 1998, and March 28, 2000, from a vessel that met the eligibility requirements in paragraphs (o)(1)(i) and (o)(1)(ii) also qualifies for an initial king mackerel gillnet endorsement.

(3) To obtain an initial king mackerel gillnet endorsement under the moratorium, an owner or operator of a vessel that does not have a king mackerel gillnet endorsement on March 28, 2000 must submit an application to the RA, postmarked or hand delivered not later than June 26, 2000. Except for applications for renewals of king mackerel gillnet endorsements, no applications for king mackerel gillnet endorsements will be accepted after June 26, 2000. Application forms are available from the RA.

(4) The RA will not issue an owner more initial king mackerel gillnet endorsements under the moratorium than the number of vessels with king mackerel gillnet endorsements that the owner owned simultaneously on or before October 16, 1995.

(5) An owner of a vessel with a king mackerel gillnet endorsement issued under this moratorium may transfer that endorsement upon a change of ownership of a permitted vessel with such endorsement from one to another of the following: Husband, wife, son, daughter, brother, sister, mother, or father. Such endorsement also may be transferred to another vessel owned by the same entity.

(6) A king mackerel gillnet endorsement that is not renewed or that is revoked will not be reissued. An endorsement is considered to be not renewed when an application for renewal is not received by the RA within 1 year after the expiration date of the permit that includes the endorsement.

* * * * *

3. In § 622.38, paragraph (g) is revised to read as follows:

§ 622.38 Landing fish intact.

* * * * *

(g) Cut-off (damaged) king or Spanish mackerel that comply with the minimum size limits in § 622.37(c)(2) and (c)(3), respectively, and the trip limits in § 622.44(a) and (b), respectively, may be possessed in the Gulf, Mid-Atlantic, or South Atlantic EEZ on, and offloaded ashore from, a vessel that is operating under the respective trip limits. Such cut-off fish also may be sold. A maximum of five additional cut-off (damaged) king mackerel, not subject to the size limits or trip limits, may be possessed or offloaded ashore but may not be sold or purchased and are not counted against the trip limit.

* * * * *

4. In § 622.41, paragraphs (c)(1)(ii) and (c)(2)(iv) are revised to read as follows:

§ 622.41 Species specific limitations.

* * * * *

(c) * * *

(1) * * *

(ii) King mackerel, Gulf migratory group—hook-and-line gear and, in the southern Florida west coast subzone only, run-around gillnet. (See § 622.42(c)(1)(i)(A)(3) for a description of the southern Florida west coast subzone.)

* * * * *

(2) * * *

(iv) Exception for king mackerel in the Gulf EEZ. The provisions of this paragraph (c)(2)(iv) apply to king mackerel taken in the Gulf EEZ and to such king mackerel possessed in the Gulf. Paragraph (c)(2)(iii) of this section notwithstanding, a person aboard a vessel that has a valid commercial permit for king mackerel is not subject to the bag limit for king mackerel when the vessel has on board on a trip unauthorized gear other than a drift gillnet in the Gulf EEZ, a long gillnet, or a run-around gillnet in an area other than the southern Florida west coast subzone. Thus, the following applies to a vessel that has a commercial permit for king mackerel:

(A) Such vessel may not use unauthorized gear in a directed fishery for king mackerel in the Gulf EEZ.

(B) If such a vessel has a drift gillnet or a long gillnet on board or a run-around gillnet in an area other than the southern Florida west coast subzone, no king mackerel may be possessed.

(C) If such a vessel has unauthorized gear on board other than a drift gillnet in the Gulf EEZ, a long gillnet, or a run-around gillnet in an area other than the southern Florida west coast subzone, the possession of king mackerel taken incidentally is restricted only by the closure provisions of § 622.43(a)(3) and the trip limits specified in § 622.44(a). See also paragraph (c)(4) of this section regarding the purse seine incidental catch allowance of king mackerel.

* * * * *

5. In § 622.42, paragraphs (c)(1)(i)(A)(1) through (c)(1)(i)(A)(3) are revised to read as follows:

§ 622.42 Quotas.

* * * * *

(c) * * *

(1) * * *

(i) * * *

(A) * * *

(1) Florida east coast subzone—1,082,250 lb (490,900 kg).

(2) Florida west coast subzones—(i) Southern—1,082,250 lb (490,900 kg), which is further divided into a quota of 541,125 lb (245,450 kg) for vessels fishing with hook-and-line and a quota of 541,125 lb (245,450 kg) for vessels fishing with run-around gillnets.

(ii) Northern—175,500 lb (79,606 kg).

(3) Description of Florida subzones. The Florida east coast subzone is that part of the eastern zone north of 25°20.4' N. lat., which is a line directly east from the Miami-Dade/Monroe County, FL, boundary. The Florida west coast subzone is that part of the eastern zone south and west of 25°20.4' N. lat. The Florida west coast subzone is further divided into southern and northern subzones. From November 1 through March 31, the southern subzone is that part of the Florida west coast subzone that extends south and west from 25°20.4' N. lat. to 26°19.8' N. lat., a line directly west from the Lee/Collier County, FL boundary (i.e., the area off Collier and Monroe Counties). From April 1 through October 31, the southern subzone is that part of the Florida west coast subzone that is between 26°19.8' N. lat. and 25°48' N. lat., which is a line directly west from the Monroe/Collier County, FL, boundary (i.e., off Collier County). The northern subzone is that part of the Florida west coast subzone that is between 26°19.8' N. lat. and 87°31'06” W. long., which is a line directly south from the Alabama/Florida boundary.

* * * * *

6. In § 622.44, paragraphs (a)(2)(i) and (a)(2)(ii) are revised to read as follows:

§ 622.44 Commercial trip limits.

* * * * *

(a) * * *

(2) * * *

(i) Eastern zone-Florida east coast subzone. In the Florida east coast subzone, king mackerel in or from the EEZ may be possessed on board or landed from a vessel for which a commercial permit for king mackerel has been issued, as required under § 622.4(a)(2)(iii), from November 1 each fishing year until the subzone's fishing year quota of king mackerel has been harvested or until March 31, whichever occurs first, in amounts not exceeding 50 fish per day.

(ii) Eastern zone-Florida west coast subzone—(A) Gillnet gear. (1) In the southern Florida west coast subzone, king mackerel in or from the EEZ may be possessed on board or landed from a vessel for which a commercial permit with a gillnet endorsement has been issued, as required under § 622.4(a)(2)(ii), from July 1, each fishing year, until a closure of the southern Florida west coast subzone's fishery for vessels fishing with run-around gillnets has been effected under § 622.43(a)—in amounts not exceeding 25,000 lb (11,340 kg) per day.

(2) In the southern Florida west coast subzone:

(i) King mackerel in or from the EEZ may be possessed on board or landed from a vessel that uses or has on board a run-around gillnet on a trip only when such vessel has on board a commercial permit for king mackerel with a gillnet endorsement.

(ii) King mackerel from the southern west coast subzone landed by a vessel for which such commercial permit with endorsement has been issued will be counted against the run-around gillnet quota of § 622.42(c)(1)(i)(A)(2)(i).

(iii) King mackerel in or from the EEZ harvested with gear other than run-around gillnet may not be retained on board a vessel for which such commercial permit with endorsement has been issued.

(B) Hook-and-line gear. In the Florida west coast subzone, king mackerel in or from the EEZ may be possessed on board or landed from a vessel with a commercial permit for king mackerel, as required by § 622.4(a)(2)(iii), and operating under the hook-and-line gear quotas in § 622.42(c)(1)(i)(A)(2)(i) or (c)(1)(i)(A)(2)(ii):

(1) From July 1, each fishing year, until 75 percent of the respective northern or southern subzone's hook-and-line gear quota has been harvested—in amounts not exceeding 1,250 lb (567 kg) per day.

(2) From the date that 75 percent of the respective northern or southern subzone's hook-and-line gear quota has been harvested, until a closure of the respective northern or southern subzone's fishery for vessels fishing with hook-and-line gear has been effected under § 622.43(a)—in amounts not exceeding 500 lb (227 kg) per day.

* * * * *

7. In § 622.45, paragraph (h) is revised to read as follows:

§ 622.45 Restrictions on sale/purchase.

* * * * *

(h) Cut-off (damaged) king or Spanish mackerel. A person may not sell or purchase a cut-off (damaged) king or Spanish mackerel that does not comply with the minimum size limits specified in § 622.37(c)(2) or (c)(3), respectively, or that is in excess of the trip limits specified in § 622.44(a) or (b), respectively.

[FR Doc. 00-7610 Filed 3-27-00; 8:45 am]

BILLING CODE 3510-22-F